DEPARTMENT OF COMMERCE

National Oceanic and Atmospheric Administration

50 CFR Part 648

[I.D. 041802C]

RIN 0648-AP76

Magnuson-Stevens Fishery Conservation and Management Act Provisions; Fisheries of the Northeastern United States; Atlantic Deep-Sea Red Crab Fishery; Atlantic Deep-Sea Red Crab Fishery Management Plan

AGENCY: National Marine Fisheries Service (NMFS), National Oceanic and Atmospheric Administration (NOAA), Commerce.

ACTION: Notice of availability of a fishery management plan; request for comments.

SUMMARY: NMFS announces that the New England Fishery Management Council (Council) has submitted the Atlantic Deep-Sea Red Crab Fishery Management Plan (FMP) for Secretarial review and is requesting comments from the public. The FMP is intended to prevent overfishing and maintain fleet capacity appropriate to the resource abundance.

DATES: Comments must be received on or before July 1, 2002.

ADDRESSES: Comments on the FMP should be sent to Patricia A. Kurkul, Regional Administrator, NMFS, Northeast Regional Office, One Blackburn Drive, Gloucester, MA 01930. Mark the outside of the envelope, “Comments on Red Crab FMP.”

Copies of the FMP, its Regulatory Impact Review (RIR) and the Initial Regulatory Flexibility Analysis (IRFA), and the Final Environmental Impact Statement (FEIS) are available from Paul J. Howard, Executive Director, New England Fishery Management Council (Council), 50 Water Street, The Tannery - Mill 2, Newburyport, MA 01950.

FOR FURTHER INFORMATION CONTACT: E. Martin Jaffe, Fishery Policy Analyst, 978-281-9272, fax 978-281-9135.

SUPPLEMENTARY INFORMATION: The FMP proposes an overfishing definition and implementation of the following measures: A target total allowable catch (TAC) level for the management area; a procedure for the development and revision of annual specifications; a framework adjustment process; a limited access program for the directed fishery; trip limits and incidental harvest allowances; permitting and reporting requirements, including an automated Interactive Voice Response (IVR) reporting system for limited access vessels; a Days-at-Sea (DAS) allocation effort control program; gear restrictions and gear marking requirements; trap/pot limits; restrictions on processing at sea; restrictions on retaining and landing female crabs in the directed fishery; mutilation restrictions; and other measures for administration and enforcement.

A proposed rule that would implement the FMP may be published in the Federal Register for public comment, following NMFS' evaluation of the proposed rule under the procedures of the Magnuson-Stevens Act. Public comments on the proposed rule must be received by the end of the comment period on the FMP to be considered in the approval/disapproval decision on the FMP. All comments received by July 1, 2002, whether specifically directed to the FMP or the proposed rule, will be considered in the approval/disapproval decision on the FMP. Comments received after that date will not be considered in the decision to approve or disapprove the FMP.

Authority: 16 U.S.C. 1801 et seq.

Dated: April 25, 2002.
John H. Dunnigan,
Director, Office of Sustainable Fisheries, National Marine Fisheries Service.

[FR Doc. 02-10598 Filed 4-29-02; 8:45 am]

BILLING CODE 3510-22-S